DEPARTMENT OF ENERGY

Federal Energy Regulatory Commission

Combined Notice of Filings #1

Take notice that the Commission received the following electric corporate filings:

Docket Numbers: EC23-74-000.

Applicants: Energy Harbor Corp.

Description: Joint Application for Authorization Under Section 203 of the Federal Power Act of Energy Harbor Corp.

Filed Date: 4/17/23.

Accession Number: 20230417-5260.

Comment Date: 5 p.m. ET 6/16/23.

Docket Numbers: EC23-75-000.

Applicants: Northern Indiana Public Service Company LLC.

Description: Application for Authorization Under Section 203 of the Federal Power Act of Northern Indiana Public Service Company LLC.

Filed Date: 4/17/23.

Accession Number: 20230417-5263

Comment Date: 5 p.m. ET 5/8/23.

Docket Numbers: EC23-76-000.

Applicants: Sunrise Power Company, LLC, Hull Street Energy, LLC.

Description: Joint Application for Authorization Under Section 203 of the Federal Power Act of Sunrise Power Company, LLC, et al.

Filed Date: 4/17/23.

Accession Number: 20230417-5264.

Comment Date: 5 p.m. ET 5/8/23.

Take notice that the Commission received the following Complaints and Compliance filings in EL Dockets:

Docket Numbers: EL23-5-000; QF22-1120-002; QF22-1121-002; QF22-1122-002.

Applicants: CSU 2020 Renewable Energy, LLC, CSU 2020 Renewable Energy, LLC, CSU 2020 Renewable Energy, LLC, Standard Solar, Inc.

Description: Errata to October 18, 2022 Petition for Declaratory Order of Standard Solar, Inc.

Filed Date: 4/5/23.

Accession Number: 20230405-5198.

Comment Date: 5 p.m. ET 5/5/23.

Take notice that the Commission received the following electric rate filings:

Docket Numbers: ER20-1435-002.

Applicants: Energy Harbor LLC.

Description: Compliance filing: Informational Filing Regarding Planned Transfer to be effective N/A.

Filed Date: 4/17/23.

Accession Number: 20230417-5161.

Comment Date: 5 p.m. ET 5/8/23.

Docket Numbers: ER20-1721-002.

Applicants: Energy Harbor LLC.

Description: Compliance filing: Informational Filing Regarding Generation Facilities Sale ER20-1721 to be effective N/A.

Filed Date: 4/17/23.

Accession Number: 20230417-5163.

Comment Date: 5 p.m. ET 5/8/23.

Docket Numbers: ER23-1038-001.

Applicants: PJM Interconnection, L.L.C.

Description: Compliance filing: Compliance to Clarify Future Extensions of Non-Performance Charges ER23-1038 to be effective 4/4/2023.

Filed Date: 4/18/23.

Accession Number: 20230418-5127.

Comment Date: 5 p.m. ET 5/9/23.

Docket Numbers: ER23-1158-001.

Applicants: PJM Interconnection, L.L.C.

Description: Tariff Amendment: Request to Defer Action on SA Filing Original NSA SA No. 6788; Queue No. AC2-136 to be effective 12/31/9998.

Filed Date: 4/18/23.

Accession Number: 20230418-5051.

Comment Date: 5 p.m. ET 5/9/23.

Docket Numbers: ER23-1165-000.

Applicants: McFarland Solar A, LLC.

Description: McFarland Solar A, LLC submits Supplement to Application and Request for Shortened Comment Period.

Filed Date: 4/10/23.

Accession Number: 20230410-5045.

Comment Date: 5 p.m. ET 4/28/23.

Docket Numbers: ER23-1246-001.

Applicants: Generac Grid Services LLC.

Description: Tariff Amendment: Supplement to Application for MBR Authority to be effective 4/1/2023.

Filed Date: 4/17/23.

Accession Number: 20230417-5172.

Comment Date: 5 p.m. ET 5/8/23.

Docket Numbers: ER23-1656-000.

Applicants: Alabama Power Company, Georgia Power Company, Mississippi Power Company.

Description: § 205(d) Rate Filing: Alabama Power Company submits tariff filing per 35.13(a)(2)(iii: Magnolia Energy Park LGIA Filing to be effective 4/5/2023.

Filed Date: 4/18/23.

Accession Number: 20230418-5106.

Comment Date: 5 p.m. ET 5/9/23.

Docket Numbers: ER23-1657-000.

Applicants: Duke Energy Carolinas, LLC.

Description: § 205(d) Rate Filing: DEC-NCMPA1 SA No. 212 to be effective 5/1/2023.

Filed Date: 4/18/23.

Accession Number: 20230418-5111.

Comment Date: 5 p.m. ET 5/9/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 18, 2023.
Debbie-Anne A. Reese,
Deputy Secretary.

[FR Doc. 2023-08607 Filed 4-21-23; 8:45 am]

BILLING CODE 6717-01-P